DEPARTMENT OF ENERGY

Federal Energy Regulatory Commission

Combined Notice of Filings

Take notice that the Commission has received the following Natural Gas Pipeline Rate and Refund Report filings:

Filings Instituting Proceedings

Docket Numbers: PR25-61-000.

Applicants: Southern California Gas Company.

Description: 284.123 Rate Filing: Offshore Delivery Service Rate Revision July 2025 to be effective 7/1/2025.

Filed Date: 7/30/25.

Accession Number: 20250730-5107.

Comment Date: 5 p.m. ET 8/20/25.

Docket Numbers: PR25-62-000.

Applicants: Atmos Pipeline—Texas.

Description: 284.123(g) Rate Filing: Revised Statement of Operating Conditions to be effective 7/30/2025.

Filed Date: 7/30/25.

Accession Number: 20250730-5112.

Comment Date: 5 p.m. ET 8/20/25.

284.123(g) Protest: 5 p.m. ET 9/29/25.

Docket Numbers: RP25-1026-000.

Applicants: El Paso Natural Gas Company, L.L.C.

Description: 4(d) Rate Filing: Negotiated Rate Agreements Update (Sempra Aug 2025) to be effective 8/1/2025.

Filed Date: 7/30/25.

Accession Number: 20250730-5157.

Comment Date: 5 p.m. ET 8/11/25.

Docket Numbers: RP25-1027-000.

Applicants: Midcontinent Express Pipeline LLC.

Description: 4(d) Rate Filing: MEP July 2025 NRA Filing to be effective 8/1/2025.

Filed Date: 7/31/25.

Accession Number: 20250731-5031.

Comment Date: 5 p.m. ET 8/12/25.

Docket Numbers: RP25-1028-000.

Applicants: Ruby Pipeline, L.L.C.

Description: 4(d) Rate Filing: RP 2025-07-31 FL&U and EPC Rate Adjustment to be effective 9/1/2025.

Filed Date: 7/31/25.

Accession Number: 20250731-5035.

Comment Date: 5 p.m. ET 8/12/25.

Docket Numbers: RP25-1029-000.

Applicants: Columbia Gulf Transmission, LLC.

Description: 4(d) Rate Filing: NC/NR Clean-Up to be effective 9/1/2025.

Filed Date: 7/31/25.

Accession Number: 20250731-5047.

Comment Date: 5 p.m. ET 8/12/25.

Docket Numbers: RP25-1030-000.

Applicants: El Paso Natural Gas Company, L.L.C.

Description: 4(d) Rate Filing: Negotiated Rate Agreement Update (EOG Aug-Oct 2025) to be effective 8/1/2025.

Filed Date: 7/31/25.

Accession Number: 20250731-5053.

Comment Date: 5 p.m. ET 8/12/25.

Docket Numbers: RP25-1031-000.

Applicants: Northern Natural Gas Company.

Description: 4(d) Rate Filing: 20250731 Negotiated Rate to be effective 8/1/2025.

Filed Date: 7/31/25.

Accession Number: 20250731-5056.

Comment Date: 5 p.m. ET 8/12/25.

Docket Numbers: RP25-1032-000.

Applicants: El Paso Natural Gas Company, L.L.C.

Description: 4(d) Rate Filing: Negotiated Rate Agreement Update (Hartree Aug 25) to be effective 8/1/2025.

Filed Date: 7/31/25.

Accession Number: 20250731-5057.

Comment Date: 5 p.m. ET 8/12/25.

Docket Numbers: RP25-1033-000.

Applicants: Algonquin Gas Transmission, LLC.

Description: 4(d) Rate Filing: Negotiated Rates—Various Releases eff 8-1-2025 to be effective 8/1/2025.

Filed Date: 7/31/25.

Accession Number: 20250731-5061.

Comment Date: 5 p.m. ET 8/12/25.

Docket Numbers: RP25-1034-000.

Applicants: NEXUS Gas Transmission, LLC.

Description: 4(d) Rate Filing: Negotiated Rates—Various Releases eff 8-1-2025 to be effective 8/1/2025.

Filed Date: 7/31/25.

Accession Number: 20250731-5063.

Comment Date: 5 p.m. ET 8/12/25.

Docket Numbers: RP25-1035-000.

Applicants: Columbia Gas Transmission, LLC.

Description: 4(d) Rate Filing: EPE Neg Rate Agmt Mountaineer Gas 261421, Eff. 8.1.25 to be effective 8/1/2025.

Filed Date: 7/31/25.

Accession Number: 20250731-5067.

Comment Date: 5 p.m. ET 8/12/25.

Docket Numbers: RP25-1036-000.

Applicants: Alliance Pipeline L.P.

Description: 4(d) Rate Filing: Negotiated Rates—Releases 08-01-2025 to be effective 8/1/2025.

Filed Date: 7/31/25.

Accession Number: 20250731-5084.

Comment Date: 5 p.m. ET 8/12/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 31, 2025.
Debbie-Anne A. Reese,
Secretary.

[FR Doc. 2025-14835 Filed 8-4-25; 8:45 am]

BILLING CODE 6717-01-P